DEPARTMENT OF TRANSPORTATION

Federal Highway Administration

Notice of Final Federal Agency Actions on Proposed Highway in the City of Cleveland, Ohio

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed project to connect Interstate 480 (I-480) to University Circle area in Cleveland, Ohio, Cuyahoga County, with a new boulevard. Those actions grant approvals for the project.

DATES: A claim seeking judicial review of the Federal agency actions on the highway project will be barred unless the claim is filed on or before October 20, 2014. If this date falls on a Saturday, Sunday, or legal holiday, parties are advised to file their claim no later than the business day preceding this date. If the Federal law that authorizes judicial review of a claim provides a time period of less than 150 days for filing such claim, then that shorter time period still applies.

FOR FURTHER INFORMATION CONTACT: Ms. Naureen Dar, PE, Transportation Engineer, Federal Highway Administration, 200 North High Street, Columbus, Ohio, 43215; telephone: (614) 280-6846; or Mr. Gary Benesh, PE, Ohio Department of Transportation (ODOT), 5500 Transportation Blvd., Garfield Heights, Ohio 44125 telephone: (216) 584-2108.

SUPPLEMENTARY INFORMATION: Notice is hereby given that the FHWA has taken final agency actions by issuing approvals for the following major highway improvements in the State of Ohio: The Cleveland Opportunity Corridor project. The project meets purpose of improving the roadway network within a historically underserved, economically depressed area within the City of Cleveland. It will also address the identified transportation need elements, including improving system linkage, improving mobility and supporting planned economic development. The length of the Opportunity Corridor is approximately 3.6 miles, and the project involves building an urban boulevard with traffic lights at intersections from the I-490-East 55th Street intersection to the East 105th Street-Chester Avenue intersection. The proposed boulevard will have two westbound through-lanes, but the number of eastbound through-lanes will vary. Left-turn lanes will also be added at many of the intersections. Additional amenities and mitigation measures are also provided. The actions by the Federal agencies, and the laws under which such actions were taken, are described in the Draft Environmental Impact Statement (DEIS) the project, approved on August 8, 2013, and the Final Environmental Impact Statement/Record of Decision (FEIS/ROD), approved on May 1st, 2014 and in other documents in the FHWA administrative record. The DEIS, FEIS/ROD and other documents in the FHWA administrative record are available by contacting the FHWA or ODOT at the addresses provided above or at http://www.dot.state.oh.us/projects/ClevelandUrbanCoreProjects/OpportunityCorridor/Pages/default.aspx. This notice applies to all Federal agency decisions as of the issuance date of this notice and all laws under which such actions were taken, including but not limited to:

1. General: National Environmental Policy Act (NEPA) [42 USC 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Catalog of Federal Domestic Assistance Number and Title: FHWA 20.205, Highway Planning and Construction (A, B). The regulations implementing Executive Order 12372 regarding intergovernmental consultation on Federal programs and activities apply to this program.

Authority: 23 U.S.C. 139(l)(1); Sec. 1308, Public Law 112-141, 126 Stat. 405.

Issued on: May 9th, 2014.
Laura S. Leffler,
Division Administrator, Columbus, Ohio.

[FR Doc. 2014-11758 Filed 5-22-14; 8:45 am]

BILLING CODE 4910-22-P